DEPARTMENT OF HOMELAND SECURITY

U.S. Customs and Border Protection

19 CFR PART 101

[CBP Dec. 14-09]

Technical Amendment to the List of CBP Preclearance Offices in Foreign Countries: Addition of Abu Dhabi, United Arab Emirates

AGENCY: U.S. Customs and Border Protection, Department of Homeland Security.

ACTION: Final rule; technical amendment.

SUMMARY: This rule amends U.S. Customs and Border Protection (CBP) regulations to reflect that CBP has added a preclearance location in Abu Dhabi, United Arab Emirates. CBP Preclearance operations in Abu Dhabi, United Arab Emirates officially began on January 24, 2014, pursuant to an agreement between the Governments of the United States and the United Arab Emirates. CBP Officers at preclearance locations conduct inspections and examinations to ensure compliance with U.S. customs, immigration, and agriculture laws, as well as other laws enforced by CBP at the U.S. border. Such inspections and examinations prior to arrival in the United States generally enable travelers to exit the domestic terminal or connect directly to a U.S. domestic flight without undergoing further CBP processing.

DATES: Effective Date: August 8, 2014.

FOR FURTHER INFORMATION CONTACT: Dylan DeFrancisci, Office of Field Operations, 202-344-3671, dylan.defrancisci@cbp.dhs.gov.

SUPPLEMENTARY INFORMATION:

I. Background

A. Preclearance Operations

CBP preclearance operations have been in existence since 1952. Preclearance facilities are established through the cooperative efforts of CBP, foreign government representatives, and the local facility authorities and are evidenced with signed preclearance agreements.

Each facility is staffed with CBP Officers responsible for conducting inspections and examinations in connection with preclearing passengers, crew, and their goods bound for the United States. Generally, travelers who are inspected at a preclearance facility are permitted to arrive at a U.S. domestic facility and exit the U.S. domestic terminal upon arrival or connect directly to a U.S. domestic flight without further CBP processing.

Preclearance operations enhance security in the air environment through the screening and inspection of travelers prior to their arrival in the United States. Additionally, preclearance operations facilitate legitimate travel and relieve passenger congestion at federal inspection facilities in the United States. In Fiscal Year (FY) 2013, over 16 million aircraft travelers were processed at preclearance locations. This figure represents more than 15.5 percent of all commercial aircraft travelers cleared by CBP in FY 2013.

B. Abu Dhabi, United Arab Emirates Preclearance Operations

An “Agreement Between the Government of the United States of America and the Government of the United Arab Emirates on Air Transport Preclearance” (Agreement) was signed on April 15, 2013. Among other things, the Agreement sets forth the obligations of the United Arab Emirates and the United States and establishes the Abu Dhabi International Airport as a preclearance location. Under the Agreement, flights eligible for preclearance are non-stop commercial flights that are destined from the United Arab Emirates to the United States. The Agreement provides that it will be carried out in a manner consistent with the laws and constitutions of both governments. Preclearance operations officially began in Abu Dhabi, United Arab Emirates on January 24, 2014.

C. Regulatory Amendment

Section 101.5 of the CBP regulations (19 CFR 101.5) sets forth a list of CBP preclearance offices in foreign countries. This document amends this section to add Abu Dhabi, United Arab Emirates to the list of preclearance offices. This document also corrects the misspelling of the Oranjestad, Aruba preclearance location.

II. Statutory and Regulatory Requirements

A. Inapplicability of Public Notice and Delayed Effective Date Requirements

Under the Administrative Procedure Act (5 U.S.C. 553(b)), an agency may waive the normal notice and comment requirements if it finds, for good cause, that they are impracticable, unnecessary, or contrary to the public interest. Based on an Agreement between the Governments of the United States and the United Arab Emirates, preclearance operations in Abu Dhabi, United Arab Emirates have been operating since January 24, 2014. The final rule merely adds Abu Dhabi, United Arab Emirates to the list of CBP preclearance locations in foreign countries. This amendment is a technical change to merely update the list of preclearance locations. Therefore, notice and comment for this rule is unnecessary and contrary to the public interest because the rule has no substantive impact, is technical in nature, and relates only to management, organization, procedure, and practice. For the same reasons, pursuant to 5 U.S.C. 553(d)(3), a delayed effective date is not required.

B. The Regulatory Flexibility Act and Executive Order 12866

Because no notice of proposed rulemaking is required, the provisions of the Regulatory Flexibility Act (5 U.S.C. 601 et seq.) do not apply. This amendment does not meet the criteria for a “significant regulatory action” as specified in Executive Order 12866, as supplemented by Executive Order 13563.

C. Signing Authority

This document is being issued in accordance with 19 CFR 0.2(a) because preclearance locations are not within the bounds of those regulations for which the Secretary of the Treasury has retained sole authority. Therefore, this rule may be signed by the Secretary of Homeland Security or his or her designee.

List of Subjects In 19 CFR Part 101

Customs duties and inspection, Customs ports of entry, Foreign trade statistics, Imports, Organization and functions (Government agencies), Shipments, Vessels.

Amendments to Regulations

For the reasons discussed above, part 101 of title 19 of the Code of Federal Regulations (19 CFR Part 101) is amended as set forth below.

PART 101—GENERAL PROVISIONS

1. The general authority citation for part 101 and specific authority citation for § 101.5 continue to read as follows:

Authority: 5 U.S.C. 301; 19 U.S.C. 2, 66, 1202 (General Note 3(i), Harmonized Tariff Schedule of the United States), 1623, 1624, 1629, 1646a.

* * * * *

Section 101.5 also issued under 19 U.S.C. 1629.

* * * * *

2. Revise § 101.5 to read as follows:

§ 101.5 CBP preclearance offices in foreign countries.

Listed below are the preclearance offices in foreign countries where CBP Officers are located. A Director, Preclearance, located in the Office of Field Operations at CBP Headquarters, is the responsible CBP Officer exercising supervisory control over all preclearance offices.

Country | CBP office
Aruba | Oranjestad.
The Bahamas | Freeport. Nassau.
Bermuda | Kindley Field.
Canada | Calgary, Alberta. Edmonton, Alberta. Halifax, Nova Scotia. Montreal, Quebec. Ottawa, Ontario. Toronto, Ontario. Vancouver, British Columbia. Winnipeg, Manitoba.
Ireland | Dublin. Shannon.
United Arab Emirates | Abu Dhabi.

Dated: August 4, 2014.
R. Gil Kerlikowske,
Commissioner, U.S. Customs and Border Protection.

[FR Doc. 2014-18759 Filed 8-7-14; 8:45 am]

BILLING CODE 9111-14-P